DEPARTMENT OF ENERGY

Federal Energy Regulatory Commission

[Docket No. EL19-59-000]

Consumers Energy Company v. Midcontinent Independent System Operator, Inc. and Michigan Electric Transmission Company, LLC; Notice of Complaint

Take notice that on April 3, 2019, pursuant to sections 201 and 206 of the Federal Power Act, 16 U.S.C. 824, 824e, and Rule 206 of the Federal Energy Regulatory Commission's (Commission) Rules of Practice and Procedure, 18 CFR 385.206, Consumers Energy Company (Complainant) filed a formal complaint against Midcontinent Independent System Operator, Inc. (MISO) and Michigan Electric Transmission Company, LLC (METC) (collectively Respondents), alleging that MISO improperly approved a proposed METC project for inclusion in MISO's 2018 Transmission Expansion Plan, all as more fully explained in the complaint.

The Complainant certifies that copies of the complaint were served on the contacts listed for Respondent's, as well as affected regulatory agencies and other entities under Rule 206(c) of the Commission's Rules of Practice and Procedure, 18 CFR 385.206(c), as listed on the Commission's list of Corporate Officials.

Any person desiring to intervene or to protest this filing must file in accordance with Rules 211 and 214 of the Commissions' Rules of Practice and Procedure (18 CFR 385.211, 385.214). Protests will be considered by the Commission in determining the appropriate action to be taken, but will not serve to make protestants parties to the proceeding. Any person wishing to become a party must file a notice of intervention or motion to intervene, as appropriate. The Respondents' answer and all interventions, or protests must be filed on or before the comment date. The Respondent's answer, motions to intervene, and protests must be served on the Complainants.

The Commission encourages electronic submission of protests and interventions in lieu of paper using the eFiling link at http://www.ferc.gov. Persons unable to file electronically should submit an original and 5 copies of the protest or intervention to the Federal Energy Regulatory Commission, 888 First Street NE, Washington, DC 20426.

This filing is accessible on-line at http://www.ferc.gov, using the eLibrary link and is available for electronic review in the Commission's Public Reference Room in Washington, DC. There is an eSubscription link on the website that enables subscribers to receive email notification when a document is added to a subscribed docket(s). For assistance with any FERC Online service, please email FERCOnlineSupport@ferc.gov, or call (866) 208-3676 (toll free). For TTY, call (202) 502-8659.

Comment Date: 5:00 p.m. Eastern Time on May 3, 2019.

Dated: April 5, 2019.
Kimberly D. Bose,
Secretary.

[FR Doc. 2019-07225 Filed 4-11-19; 8:45 am]

BILLING CODE 6717-01-P